DEPARTMENT OF COMMERCE

National Oceanic and Atmospheric Administration

RIN 0648-XV042

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Southern Resident Killer Whale (SRKW) Workgroup (Workgroup), will hold a webinar, which is open to the public.

DATES: The webinar meeting will be held on Tuesday, September 24, 2019, from 9 a.m. until 2 p.m., Pacific Daylight Time. The webinar time is an estimate; the meeting will adjourn when business for the day is complete.

ADDRESSES: The meeting will be held via webinar. A public listening station is available at the Pacific Council office (address below). To attend the webinar (1) join the webinar by visiting this link https://www.gotomeeting.com/webinar (click “Join a Webinar” in top right corner of page), (2) enter the Webinar ID: 275-554-115, and (3) enter your name and email address (required). After logging in to the webinar, please (1) dial this TOLL number 1-631-992-3221 (not a toll-free number), (2) enter the attendee phone audio access code 190-414-976, and (3) enter the provided audio PIN after joining the webinar. You must enter this PIN for audio access. Note: We have disabled Mic/Speakers as an option and require all participants to use a telephone or cell phone to participate. Technical Information and system requirements: PC-based attendees are required to use Windows® 10, 8, 7, Vista, or XP; Mac®-based attendees are required to use Mac OS® X 10.5 or newer; Mobile attendees are required to use iPhone®, iPad®, Android™ phone or Android tablet (See https://www.gotomeeting.com/webinar/ipad-iphone-android-webinar-apps.) You may send an email to Mr. Kris Kleinschmidt at Kris.Kleinschmidt@noaa.gov or contact him at (503) 820-2280, extension 411 for technical assistance. A public listening station will also be available at the Pacific Council office.

Council address: Pacific Fishery Management Council, 7700 NE Ambassador Place, Suite 101, Portland, OR 97220.

FOR FURTHER INFORMATION CONTACT: Ms. Robin Ehlke, Pacific Council; telephone: (503) 820-2410.

SUPPLEMENTARY INFORMATION: The purpose of the webinar will be to review and discuss the proceedings of the Pacific Council meeting in September in Boise, Idaho relative to SRKWs, discuss data needs, document development, work plans, and progress made on assigned tasks. The Workgroup may also discuss and prepare for future Workgroup and Pacific Council meetings. The Pacific Council's Salmon Advisory Subpanel will be invited to attend in order to provide additional input and comments on the Workgroup's draft Risk Assessment report as needed. This is a public meeting and not a public hearing. Public comments will be taken at the discretion of the Workgroup co-chairs as time allows.

The National Marine Fisheries Service (NMFS) reinitiated Endangered Species Act (ESA) consultation on the effect of Pacific Council-area ocean salmon fisheries on SRKW. The Pacific Council formed the Workgroup to reassess the effects of Pacific Council-area ocean salmon fisheries on the Chinook salmon prey base of SRKW. The Workgroup has held multiple meetings since their inception. Materials presented during past Workgroup meetings may be found on the NMFS West Coast Regional website (https://www.fisheries.noaa.gov/west-coast/southern-resident-killer-whales-and-fisheries-interaction-workgroup). Agendas and meeting notices can be found on the Pacific Council's website at https://www.pcouncil.org.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, (503) 820-2411, at least 10 business days prior to the meeting date.

Authority: 16 U.S.C. 1801 et seq.

Dated: August 22, 2019.
Tracey L. Thompson,
Acting Deputy Director, Office of Sustainable Fisheries, National Marine Fisheries Service.

[FR Doc. 2019-18464 Filed 8-26-19; 8:45 am]

BILLING CODE 3510-22-P